ENVIRONMENTAL PROTECTION AGENCY

[FRL-9993-18-OECA]

See the Item Specific Docket Numbers Provided in the Text; Proposed Information Collection Request; Comment Request; See Item Specific ICR Titles Provided in the Text

AGENCY: Environmental Protection Agency (EPA).

ACTION: Notice.

SUMMARY: The Environmental Protection Agency (EPA) is planning to submit the below listed information collection requests (ICR) to the Office of Management and Budget (OMB) for review and approval in accordance with the Paperwork Reduction Act (44 U.S.C. 3501 et seq.). Before doing so, EPA is soliciting public comments on specific aspects of the proposed information collection as described below. These are proposed extensions of 41 currently approved ICRs. An Agency may not conduct or sponsor and a person is not required to respond to a collection of information unless it displays a currently valid OMB control number.

DATES: Comments must be submitted on or before July 5, 2019.

ADDRESSES: Submit your comments, referencing the Docket ID numbers provided for each item in the text, online using www.regulations.gov (our preferred method), by email to docket.oeca@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, (Mail Code 2227A), Environmental Protection Agency, 1200 Pennsylvania Ave. NW, Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. Burden is defined at 5 CFR 1320.03(b). EPA will consider the comments received and amend the ICR as appropriate. The final ICR package will then be submitted to OMB for review and approval. At that time, EPA will issue another Federal Register notice to announce the submission of the ICR to OMB and the opportunity to submit additional comments to OMB.

General Abstract: For all the listed ICRs in this notice, owners and operators of affected facilities are required to comply with reporting and record keeping requirements for the general provisions of 40 CFR part 60, subpart A or part 63, subpart A, as well as the applicable specific standards. This includes submitting initial notifications, performance tests and periodic reports and results, and maintaining records of maintain records of the occurrence and duration of any startup, shutdown, or malfunction in the operation of an affected facility, or any period during which the monitoring system is inoperative. These reports are used by EPA to determine compliance with the standards.

(1) Docket ID Number: EPA-HQ-OECA-2012-0646; NSPS for Incinerators (40 CFR part 60, subpart E) (Renewal); EPA ICR Number 1058.13; OMB Control Number 2060-0040; Expiration date November 30, 2019.

Respondents: Incinerators that charge more than 45 metric tons per day (50 tons per day) of solid waste.

Respondent's obligation to respond: Mandatory (40 CFR part 60, subpart E).

Estimated number of respondents: 82.

Frequency of response: Initially.

Estimated annual burden: 8,490 hours.

Estimated annual cost: $717,000, includes $205,000 annualized capital or operations & maintenance (O&M) costs.

Changes in estimates: There is no change in burden hours from the previous ICR.

(2) Docket ID Number: EPA-HQ-OECA-2012-0499; NSPS for Industrial-Commercial-Institutional Steam Generating Units (40 CFR part 60, subpart Db) (Renewal); EPA ICR Number 1088.15; OMB Control Number 2060-0072; Expiration date November 30, 2019.

Respondents: Industrial/commercial/institutional steam generating units (boilers).

Respondent's obligation to respond: Mandatory (40 CFR part 60, subpart Db).

Estimated number of respondents: 1846.

Frequency of response: Initially, quarterly, and semiannually.

Estimated annual burden: 1,690,000 hours.

Estimated annual cost: $210,000,000, includes $35,100,000 annualized capital or O&M costs.

Changes in estimates: There is a projected increase in burden due to an increase in the number of sources subject to the regulation.

(3) Docket ID Number: EPA-HQ-OECA-2012-0662; NESHAP for Gasoline Distribution Facilities (40 CFR part 63, subpart R) (Renewal); EPA ICR Number 1659.10; OMB Control Number 2060-0325; Expiration date November 30, 2019.

Respondents: Bulk gasoline terminals with throughputs greater than 75,700 liters/day.

Respondent's obligation to respond: Mandatory (40 CFR part 63, subpart R).

Estimated number of respondents: 492.

Frequency of response: Initially and semiannually.

Estimated annual burden: 15,900 hours.

Estimated annual cost: $2,000,000, includes $357,000 annualized capital or O&M costs.

Changes in estimates: There is no change in burden hours from the previous ICR.

(4) Docket ID Number: EPA-HQ-OECA-2012-0664; NESHAP for Commercial Ethylene Oxide Sterilization and Fumigation Operations (40 CFR part 63, subpart O) (Renewal); EPA ICR Number 1666.11; OMB Control Number 2060-0283; Expiration date November 30, 2019.

Respondents: Commercial ethylene oxide sterilization and fumigation operations.

Respondent's obligation to respond: Mandatory (40 CFR part 63, subpart O).

Estimated number of respondents: 125.

Frequency of response: Initially, occasionally, and semiannually.

Estimated annual burden: 9,200 hours.

Estimated annual cost: $1,630,000, includes $681,000 annualized capital or O&M costs.

Changes in estimates: There is a projected increase in burden due to an increase in the number of sources subject to the regulation.

(5) Docket ID Number: EPA-HQ-OECA-2012-0681; NSPS for Commercial and Industrial Solid Waste Incineration Units (40 CFR part 60, subpart CCC) (Renewal); EPA ICR Number 1926.08; OMB Control Number 2060-0450; Expiration date November 30, 2019.

Respondents: Commercial and industrial solid waste incineration units.

Respondent's obligation to respond: Mandatory (40 CFR part 60, subpart CCC).

Estimated number of respondents: 30.

Frequency of response: Initially, occasionally, semiannually and annually.

Estimated annual burden: 6,520 hours.

Estimated annual cost: $1,080,000, includes $406,000 annualized capital or O&M costs.

Changes in estimates: There is no change in burden hours from the previous ICR.

(6) Docket ID Number: EPA-HQ-OECA-2012-0685; Emission Guidelines for Existing Commerce and Industrial Solid Waste Incineration Units (40 CFR part 60, subpart DDDD) (Renewal); EPA ICR Number 1927.08; OMB Control Number 2060-0451; Expiration date November 30, 2019.

Respondents: Commercial and industrial solid waste incineration units.

Respondent's obligation to respond: Mandatory (40 CFR part 60, subpart DDDD).

Estimated number of respondents: 90.

Frequency of response: Initially, occasionally, semiannually, and annually.

Estimated annual burden: 19,700 hours.

Estimated annual cost: $3,250,000, includes $1,220,000 annualized capital or O&M costs.

Changes in estimates: There is no change in burden hours from the previous ICR.

(7) Docket ID Number: EPA-HQ-OECA-2012-0686; NESHAP for Organic Liquids Distribution (Non-Gasoline) Facilities (40 CFR part 63, subpart EEEE) (Renewal); EPA ICR Number 1963.07; OMB Control Number 2060-0539; Expiration date November 30, 2019.

Respondents: Organic liquids (non-gasoline) distribution facilities.

Respondent's obligation to respond: Mandatory (40 CFR part 63, subpart EEEE).

Estimated number of respondents: 381.

Frequency of response: Initially and semiannually.

Estimated annual burden: 115,000 hours.

Estimated annual cost: $20,500,000, includes $8,560,000 annualized capital or O&M costs.

Changes in estimates: There is no change in burden hours from the previous ICR.

(8) Docket ID Number: EPA-HQ-OECA-2012-0687; NESHAP for Stationary Combustion Turbines (40 CFR part 63, subpart YYYY) (Renewal); EPA ICR Number 1967.07; OMB Control Number 2060-0540; Expiration date November 30, 2019.

Respondents: Stationary combustion turbines.

Respondent's obligation to respond: Mandatory (40 CFR part 63, subpart YYYY).

Estimated number of respondents: 131.

Frequency of response: Initially, semiannually, and annually.

Estimated annual burden: 2,220 hours.

Estimated annual cost: $239,000, includes $9,700 annualized capital or O&M costs.

Changes in estimates: There is a projected increase in burden due to an increase in the number of sources subject to the regulation.

(9) Docket ID Number: EPA-HQ-OECA-2012-0690; NESHAP for Automobile and Light-duty Truck Surface Coating (40 CFR part 63, subpart IIII) (Renewal); EPA ICR Number 2045.07; OMB Control Number 2060-0550; Expiration date November 30, 2019.

Respondents: Facilities that perform surface coating on automobiles and light-duty trucks.

Respondent's obligation to respond: Mandatory (40 CFR part 63, subpart IIII).

Estimated number of respondents: 65.

Frequency of response: Initially, occasionally, and semiannually.

Estimated annual burden: 26,700 hours.

Estimated annual cost: $2,830,000, includes $78,000 annualized capital or O&M costs.

Changes in estimates: There is a projected decrease in burden due to anticipated shutdown of existing sources.

(10) Docket ID Number: EPA-HQ-OECA-2012-0695; NESHAP for Site Remediation (40 CFR part 63, subpart GGGGG) (Renewal); EPA ICR Number 2062.07; OMB Control Number 2060-0534; Expiration date November 30, 2019.

Respondents: Facilities with site remediation activities.

Respondent's obligation to respond: Mandatory (40 CFR part 63, subpart GGGGG).

Estimated number of respondents: 286.

Frequency of response: Initially and semiannually.

Estimated annual burden: 140,000 hours.

Estimated annual cost: $13,900,000, includes $582,000 annualized capital or O&M costs.

Changes in estimates: There is no change in burden hours from the previous ICR.

(11) Docket ID Number: EPA-HQ-OECA-2012-0697; NESHAP for Iron and Steel Foundries (40 CFR part 63, subpart EEEEE) (Renewal); EPA ICR Number 2096.07; OMB Control Number 2060-0543; Expiration date November 30, 2019.

Respondents: Iron and steel foundries.

Respondent's obligation to respond: Mandatory (40 CFR part 63, subpart EEEEE).

Estimated number of respondents: 98.

Frequency of response: Initially, occasionally, and semiannually.

Estimated annual burden: 30,000 hours.

Estimated annual cost: $3,490,000, includes $400,000 annualized capital or O&M costs.

Changes in estimates: There is no change in burden hours from the previous ICR.

(12) Docket ID Number: EPA-HQ-OECA-2012-0701; NESHAP for Miscellaneous Coating Manufacturing (40 CFR part 63, subpart HHHHH) (Renewal); EPA ICR Number 2115.06; OMB Control Number 2060-0535; Expiration date November 30, 2019.

Respondents: Facilities that manufacture a miscellaneous coating, including inks, paints, or adhesives.

Respondent's obligation to respond: Mandatory (40 CFR part 63, subpart HHHHH).

Estimated number of respondents: 44.

Frequency of response: Initially, occasionally, and semiannually.

Estimated annual burden: 55,800 hours.

Estimated annual cost: $6,690,000, includes $928,000 annualized capital or O&M costs.

Changes in estimates: There is no change in burden hours from the previous ICR.

(13) Docket ID Number: EPA-HQ-OECA-2013-0318; NSPS for Magnetic Tape Coating Facilities (40 CFR part 60, subpart SSS) (Renewal); EPA ICR Number 1135.13; OMB Control Number 2060-0171; Expiration date January 31, 2020.

Respondents: Magnetic tape coating facilities constructed or modified after January 22, 1986.

Respondent's obligation to respond: Mandatory (40 CFR part 60, subpart SSS).

Estimated number of respondents: 6.

Frequency of response: Initially, quarterly, and semiannually.

Estimated annual burden: 2,030 hours.

Estimated annual cost: $295,000, includes $86,400 annualized capital or O&M costs.

Changes in estimates: There is no change in burden hours from the previous ICR.

(14) Docket ID Number: EPA-HQ-OECA-2013-0334; NSPS for Secondary Brass and Bronze Production, Primary Copper Smelters, Primary Zinc Smelters, Primary Lead Smelters, Primary Aluminum Reduction Plants, and Ferroalloy Production Facilities (40 CFR part 60, subparts M, P, Q, R, S, Z) (Renewal); EPA ICR Number 1604.12; OMB Control Number 2060-0110; Expiration date January 31, 2020.

Respondents: Secondary brass and bronze production, primary copper smelters, primary zinc smelters, primary lead smelters, primary aluminum reduction plants, and ferroalloy production facilities.

Respondent's obligation to respond: Mandatory (40 CFR part 60, subparts M, P, Q, R, S, and Z).

Estimated number of respondents: 18.

Frequency of response: Initially, monthly, semiannually, and annually.

Estimated annual burden: 3,880 hours.

Estimated annual cost: $527,000, includes $127,000 annualized capital or O&M costs.

Changes in estimates: There is no change in burden hours from the previous ICR.

(15) Docket ID Number: EPA-HQ-OECA-2013-0336; NESHAP for Off-Site Waste and Recovery Operations (40 CFR part 63, subpart DD) (Renewal); EPA ICR Number 1717.12; OMB Control Number 2060-0313; Expiration date January 31, 2020.

Respondents: Off-Site waste management and recovery operations.

Respondent's obligation to respond: Mandatory (40 CFR part 63, subpart DD).

Estimated number of respondents: 45.

Frequency of response: Initially, occasionally, and semiannually.

Estimated annual burden: 40,600 hours.

Estimated annual cost: $5,060,000, includes $874,000 annualized capital or O&M costs.

Changes in estimates: There is no change in burden hours from the previous ICR.

(16) Docket ID Number: EPA-HQ-OECA-2012-0676; NESHAP for Phosphoric Acid Manufacturing and Phosphate Fertilizers Production (40 CFR part 63, subparts AA and BB) (Renewal); EPA ICR Number 1790.09; OMB Control Number 2060-0361; Expiration date January 31, 2020.

Respondents: Phosphoric acid manufacturing and phosphate fertilizer production facilities.

Respondent's obligation to respond: Mandatory (40 CFR part 63, subparts AA and BB).

Estimated number of respondents: 13.

Frequency of response: Initially, quarterly, annually, and semiannually.

Estimated annual burden: 2,200 hours.

Estimated annual cost: $413,000, includes $186,000 annualized capital or O&M costs.

Changes in estimates: There is no change in burden hours from the previous ICR.

(17) Docket ID Number: EPA-HQ-OECA-2012-0679; NESHAP for Petroleum Refineries: Catalytic Cracking Units, Reforming and Sulfur Units (40 CFR part 63, subpart UUU) (Renewal); EPA ICR Number 1844.09; OMB Control Number 2060-0554; Expiration date January 31, 2020.

Respondents: Fluid catalytic cracking units, catalytic reforming units, and sulfur recovery units at petroleum refineries.

Respondent's obligation to respond: Mandatory (40 CFR part 63, subpart UUU).

Estimated number of respondents: 142.

Frequency of response: Initially, occasionally and semiannually.

Estimated annual burden: 20,200 hours.

Estimated annual cost: $10,900,000, includes $8,820,000 annualized capital or O&M costs.

Changes in estimates: There is no change in burden hours from the previous ICR.

(18) Docket ID Number: EPA-HQ-OECA-2013-0338; NESHAP for the Manufacture of Amino/Phenolic Resins (40 CFR part 63, subpart OOO) (Renewal); EPA ICR Number 1869.11; OMB Control Number 2060-0434; Expiration date January 31, 2020.

Respondents: Manufacturers of amino/phenolic resins.

Respondent's obligation to respond: Mandatory (40 CFR part 63, subpart OOO).

Estimated number of respondents: 19.

Frequency of response: Initially, occasionally, and semiannually.

Estimated annual burden: 23,300 hours.

Estimated annual cost: $3,360,000, includes $958,000 annualized capital or O&M costs.

Changes in estimates: There is no change in burden hours from the previous ICR.

(19) Docket ID Number: EPA-HQ-OECA-2013-0339; NESHAP for Boat Manufacturing (40 CFR part 63, subpart VVVV) (Renewal); EPA ICR Number 1966.07; OMB Control Number 2060-0546; Expiration date January 31, 2020.

Respondents: Boat manufacturing facilities.

Respondent's obligation to respond: Mandatory (40 CFR part 63, subpart VVVV).

Estimated number of respondents: 144.

Frequency of response: Initially, occasionally, quarterly, and semiannually.

Estimated annual burden: 23,500 hours.

Estimated annual cost: $2,430,000, includes $800 annualized capital or O&M costs.

Changes in estimates: There is a projected decrease in burden due to anticipated shutdown of existing sources.

(20) Docket ID Number: EPA-HQ-OECA-2013-0341; NESHAP for Plywood and Composite Wood Products (40 CFR part 63, subpart DDDD) (Renewal); EPA ICR Number 1984.07; OMB Control Number 2060-0552; Expiration date January 31, 2020.

Respondents: Plywood and composite wood products (PCWP) facilities.

Respondent's obligation to respond: Mandatory (40 CFR part 63, subpart DDDD).

Estimated number of respondents: 228.

Frequency of response: Initially, occasionally, and semiannually.

Estimated annual burden: 11,900 hours.

Estimated annual cost: $1,250,000, includes $16,000 annualized capital or O&M costs.

Changes in estimates: There is no change in burden hours from the previous ICR.

(21) Docket ID Number: EPA-HQ-OECA-2013-0345; NESHAP for Metal Can Manufacturing Surface Coating (40 CFR part 63, subpart KKKK) (Renewal); EPA ICR Number 2079.07; OMB Control Number 2060-0541; Expiration date January 31, 2020.

Respondents: Metal can manufacturing facilities that use 5,700 liters (1,500 gallons) per year or more of surface coatings.

Respondent's obligation to respond: Mandatory (40 CFR part 63, subpart KKKK).

Estimated number of respondents: 5.

Frequency of response: Initially, occasionally, and semiannually.

Estimated annual burden: 1,940 hours.

Estimated annual cost: $206,000, includes $6,000 annualized capital or O&M costs.

Changes in estimates: There is no change in burden hours from the previous ICR.

(22) Docket ID Number: EPA-HQ-OECA-2013-0310; NSPS for Sewage Sludge Treatment Plants (40 CFR part 60, subpart O) (Renewal); EPA ICR Number 1063.14; OMB Control Number 2060-0035; Expiration date March 31, 2020.

Respondents: Incinerators at sewage sludge treatment plants.

Respondent's obligation to respond: Mandatory (40 CFR part 60, subpart O).

Estimated number of respondents: 86.

Frequency of response: Initially and semiannually.

Estimated annual burden: 9,690 hours.

Estimated annual cost: $4,050,000, includes $3,050,000 annualized capital or O&M costs.

Changes in estimates: There is a projected decrease in burden due to anticipated shutdown of existing sources.

(23) Docket ID Number: EPA-HQ-OECA-2013-0314; NSPS for Phosphate Rock Plants (40 CFR part 60, subpart NN) (Renewal); EPA ICR Number 1078.12; OMB Control Number 2060-0111; Expiration date March 31, 2020.

Respondents: Phosphate rock plants.

Respondent's obligation to respond: Mandatory (40 CFR part 60, subpart NN).

Estimated number of respondents: 15.

Frequency of response: Initially and semiannually.

Estimated annual burden: 1,860 hours.

Estimated annual cost: $333,000, includes $141,000 annualized capital or O&M costs.

Changes in estimates: There is a projected increase in burden due to an increase in the number of sources subject to the regulation.

(24) Docket ID Number: EPA-HQ-OECA-2013-0329; NSPS for Rubber Tire Manufacturing (40 CFR part 60, subpart BBB) (Renewal); EPA ICR Number 1158.13; OMB Control Number 2060-0156; Expiration date March 31, 2020.

Respondents: Rubber tire manufacturers.

Respondent's obligation to respond: Mandatory (40 CFR part 60, subpart BBB).

Estimated number of respondents: 41.

Frequency of response: Initially, occasionally, semiannually, and annually.

Estimated annual burden: 17,700 hours.

Estimated annual cost: $1,850,000, includes $16,400 annualized capital or O&M costs.

Changes in estimates: There is no change in burden hours from the previous ICR.

(25) Docket ID Number: EPA-HQ-OECA-2013-0335; NESHAP for Aerospace Manufacturing and Rework Facilities (40 CFR part 63, subpart GG) (Renewal); EPA ICR Number 1687.12; OMB Control Number 2060-0314; Expiration date March 31, 2020.

Respondents: Aerospace manufacturing and rework facilities.

Respondent's obligation to respond: Mandatory (40 CFR part 63, subpart GG).

Estimated number of respondents: 144.

Frequency of response: Initially, occasionally, and semiannually.

Estimated annual burden: 115,000 hours.

Estimated annual cost: $12,000,000, includes $108,000 annualized capital or O&M costs.

Changes in estimates: There is no change in burden hours from the previous ICR.

(26) Docket ID Number: EPA-HQ-OECA-2013-0342; NESHAP for Lime Manufacturing (40 CFR part 63, subpart AAAAA) (Renewal); EPA ICR Number 2072.07; OMB Control Number 2060-0544; Expiration date March 31, 2020.

Respondents: Lime manufacturing plants.

Respondent's obligation to respond: Mandatory (40 CFR part 63, subpart AAAAA).

Estimated number of respondents: 68.

Frequency of response: Initially, occasionally, and semiannually.

Estimated annual burden: 16,300 hours.

Estimated annual cost: $2,010,000, includes $325,000 annualized capital or O&M costs.

Changes in estimates: There is a projected increase in burden due to an increase in the number of sources subject to the regulation.

(27) Docket ID Number: EPA-HQ-OECA-2013-0301; NESHAP for Beryllium (40 CFR part 61, subpart C) (Renewal); EPA ICR Number 0193.13; OMB Control Number 2060-0092; Expiration date March 31, 2020.

Respondents: Facilities processing beryllium ore, beryllium, beryllium oxides, beryllium alloys, or beryllium-containing waste.

Respondent's obligation to respond: Mandatory (40 CFR part 61, subpart C).

Estimated number of respondents: 33.

Frequency of response: Initially, occasionally, and monthly.

Estimated annual burden: 2,670 hours.

Estimated annual cost: $310,000, includes $35,000 annualized capital or O&M costs.

Changes in estimates: There is no change in burden hours from the previous ICR.

(28) Docket ID Number: EPA-HQ-OECA-2013-0340; NESHAP for Stationary Reciprocating Internal Combustion Engines (40 CFR part 63, subpart ZZZZ) (Renewal); EPA ICR Number 1975.11; OMB Control Number 2060-0548; Expiration date April 30, 2020.

Respondents: Stationary reciprocating internal combustion engines (RICE).

Respondent's obligation to respond: Mandatory (40 CFR part 63, subpart ZZZZ).

Estimated number of respondents: 906,640.

Frequency of response: Initially, quarterly, semiannually, and annually.

Estimated annual burden: 3,610,000 hours.

Estimated annual cost: $407,000,000, includes $35,100,000 annualized capital or O&M costs.

Changes in estimates: There is a projected increase in burden due to an increase in the number of sources subject to the regulation.

(29) Docket ID Number: EPA-HQ-OECA-2013-0313; NSPS for Stationary Gas Turbines (40 CFR part 60, subpart GG) (Renewal); EPA ICR Number 1071.13; OMB Control Number 2060-0028; Expiration date May 31, 2020.

Respondents: Stationary gas turbines.

Respondent's obligation to respond: Mandatory (40 CFR part 60, subpart GG).

Estimated number of respondents: 535.

Frequency of response: Initially and semiannually.

Estimated annual burden: 69,100 hours.

Estimated annual cost: $7,130,000, includes $0 annualized capital or O&M costs.

Changes in estimates: There is no change in burden hours from the previous ICR.

(30) Docket ID Number: EPA-HQ-OECA-2013-0302; NSPS for the Graphic Arts Industry (40 CFR part 60, subpart QQ) (Renewal); EPA ICR Number 0657.13; OMB Control Number 2060-0105; Expiration date May 31, 2020.

Respondents: Facilities with publication rotogravure printing presses.

Respondent's obligation to respond: Mandatory (40 CFR part 60, subpart QQ).

Estimated number of respondents: 21.

Frequency of response: Initially and semiannually.

Estimated annual burden: 1,920 hours.

Estimated annual cost: $198,000, includes $0 annualized capital or O&M costs.

Changes in estimates: There is a projected increase in burden due to an increase in the number of new or modified sources subject to the regulation.

(31) Docket ID Number: EPA-HQ-OECA-2013-0319; NSPS for VOC Emissions from Petroleum Refinery Wastewater Systems (40 CFR part 60, subpart QQQ) (Renewal); EPA ICR Number 1136.13; OMB Control Number 2060-0172; Expiration date June 30, 2020.

Respondents: Petroleum refinery wastewater systems.

Respondent's obligation to respond: Mandatory (40 CFR part 60, subpart QQQ).

Estimated number of respondents: 149.

Frequency of response: Initially, occasionally, and semiannually.

Estimated annual burden: 10,200 hours.

Estimated annual cost: $1,070,000, includes $19,400 annualized capital or O&M costs.

Changes in estimates: There is no change in burden hours from the previous ICR.

(32) Docket ID Number: EPA-HQ-OECA-2013-0321; NSPS for Sewage Sludge Incinerators (40 CFR part 60, subpart LLLL) (Renewal); EPA ICR Number 2369.05; OMB Control Number 2060-0658; Expiration date June 30, 2020.

Respondents: Sewage sludge incineration units.

Respondent's obligation to respond: Mandatory (40 CFR part 60, subpart LLLL).

Estimated number of respondents: 5.

Frequency of response: Initially, occasionally, semiannually, and annually.

Estimated annual burden: 1,270 hours.

Estimated annual cost: $825,000, includes $694,000 annualized capital or O&M costs.

Changes in estimates: There is a projected increase in burden due to an increase in the number of sources subject to the regulation.

(33) Docket ID Number: EPA-HQ-OECA-2013-0317; NESHAP for Gold Mine Ore Processing (40 CFR part 63, subpart EEEEEEE) (Renewal); EPA ICR Number 2383.05; OMB Control Number 2060-0659; Expiration date June 30, 2020.

Respondents: Gold mine ore processing and production facilities.

Respondent's obligation to respond: Mandatory (40 CFR part 63, subpart EEEEEEE).

Estimated number of respondents: 21.

Frequency of response: Initially, occasionally, semiannually, and annually.

Estimated annual burden: 2,840 hours.

Estimated annual cost: $521,000, includes $227,000 annualized capital or O&M costs.

Changes in estimates: There is no change in burden hours from the previous ICR.

(34) Docket ID Number: EPA-HQ-OECA-2013-0325; NESHAP for Benzene Emission from Benzene Storage Vessels and Coke Oven By-Product Recovery Plants (40 CFR part 61, subparts L and Y) (Renewal); EPA ICR Number 1080.16; OMB Control Number 2060-0185; Expiration date August 31, 2020.

Respondents: Owners and operators of benzene storage vessels and coke oven by-product recovery plants.

Respondent's obligation to respond: Mandatory (40 CFR part 61, subparts L and Y).

Estimated number of respondents: 21.

Frequency of response: Initially, occasionally, semiannually, and annually.

Estimated annual burden: 3,220 hours.

Estimated annual cost: $332,000, includes $0 annualized capital or O&M costs.

Changes in estimates: There is no change in burden hours from the previous ICR.

(35) Docket ID Number: EPA-HQ-OECA-2013-0315; NSPS for Commercial and Industrial Solid Waste Incineration (CISWI) units (40 CFR part 60, subpart CCCC) (Renewal); EPA ICR Number 2384.05; OMB Control Number 2060-0662; Expiration date August 31, 2020.

Respondents: Commercial and industrial solid waste incineration units.

Respondent's obligation to respond: Mandatory (40 CFR part 60, subpart CCCC).

Estimated number of respondents: 8.

Frequency of response: Initially, occasionally, semiannually, and annually.

Estimated annual burden: 1,450 hours.

Estimated annual cost: $779,000, includes $630,000 annualized capital or O&M costs.

Changes in estimates: There is a projected increase in burden due to an increase in the number of sources subject to the regulation.

(36) Docket ID Number: EPA-HQ-OECA-2014-0063; NESHAP for Polyether Polyols Production (40 CFR part 63, subpart PPP) (Renewal); EPA ICR Number 1811.11; OMB Control Number 2060-0415; Expiration date September 30, 2020.

Respondents: Polyether polyols production facilities.

Respondent's obligation to respond: Mandatory (40 CFR part 63, subpart PPP).

Estimated number of respondents: 23.

Frequency of response: Initially, occasionally, and semiannually.

Estimated annual burden: 3,710 hours.

Estimated annual cost: $383,000, includes $0 annualized capital or O&M costs.

Changes in estimates: There is no change in burden hours from the previous ICR.

(37) Docket ID Number: EPA-HQ-OECA-2013-0350; The Consolidated Air Rule (CAR) for the Synthetic Organic Chemical Manufacturing Industry (SOCMI) (Renewal); EPA ICR Number 1854.11; OMB Control Number 2060-0443; Expiration date September 30, 2020.

Respondents: Synthetic organic chemical manufacturing facilities.

Respondent's obligation to respond: Mandatory (40 CFR part 65).

Estimated number of respondents: 5,198.

Frequency of response: Initially, occasionally, semiannually and annually.

Estimated annual burden: 2,210,000 hours.

Estimated annual cost: $337,000,000, includes $105,000,000 annualized capital or O&M costs.

Changes in estimates: There is a projected increase in burden due to an increase in the number of sources subject to the regulation.

(38) Docket ID Number: EPA-HQ-OECA-2013-0353; NSPS for Stationary Spark Ignition Internal Combustion Engines (40 CFR part 60, subpart JJJJ) (Renewal); EPA ICR Number 2227.06; OMB Control Number 2060-0610; Expiration date September 30, 2020.

Respondents: Stationary spark ignition internal combustion engines.

Respondent's obligation to respond: Mandatory (40 CFR part 60, subpart JJJJ).

Estimated number of respondents: 18,570.

Frequency of response: Initially and annually.

Estimated annual burden: 35,100 hours.

Estimated annual cost: $6,140,000, includes $2,480,000 annualized capital or O&M costs.

Changes in estimates: There is a projected increase in burden due to an increase in the number of sources subject to the regulation.

(39) Docket ID Number: EPA-HQ-OECA-2016-0009; NESHAP for Group IV Polymers and Resins (40 CFR part 63, subpart JJJ) (Renewal); EPA ICR Number 2457.04; OMB Control Number 2060-0682; Expiration date September 30, 2020.

Respondents: Thermoplastic resin production facilities.

Respondent's obligation to respond: Mandatory (40 CFR part 63, subpart JJJ).

Estimated number of respondents: 31.

Frequency of response: Initially, occasionally, quarterly, and semiannually.

Estimated annual burden: 177,000 hours.

Estimated annual cost: $28,000,000, includes $9,350,000 annualized capital or O&M costs.

Changes in estimates: There is no change in burden hours from the previous ICR.

(40) Docket ID Number: EPA-HQ-OECA-2014-0034; NSPS for Kraft Pulp Mills (40 CFR part 60, subpart BB) (Renewal); EPA ICR Number 2485.04; OMB Control Number 2060-0690; Expiration date September 30, 2020.

Respondents: Kraft pulp mills.

Respondent's obligation to respond: Mandatory (40 CFR part 60, subpart BB).

Estimated number of respondents: 10.

Frequency of response: Initially, occasionally, and semiannually.

Estimated annual burden: 3,950 hours.

Estimated annual cost: $1,230,000, includes $821,000 annualized capital or O&M costs.

Changes in estimates: There is a projected increase in burden due to an increase in the number of sources subject to the regulation.

(41) Docket ID Number: EPA-HQ-OECA-2013-0303; NSPS for Equipment Leaks of VOC in Petroleum Refineries (40 CFR part 60, subparts GGG and GGGa) (Renewal); EPA ICR Number 0983.16; OMB Control Number 2060-0067; Expiration date September 30, 2020.

Respondents: Petroleum refineries.

Respondent's obligation to respond: Mandatory (40 CFR part 60, subparts GGG and GGGa).

Estimated number of respondents: 116.

Frequency of response: Initially and semiannually.

Estimated annual burden: 183,400 hours.

Estimated annual cost: $18,940,000, includes $0 annualized capital or O&M costs.

Changes in estimates: There is no change in burden hours from the previous ICR.

Dated: April 17, 2019.
Martha Segall,
Acting Director, Monitoring, Assistance and Media Programs Division, Office of Compliance.

[FR Doc. 2019-09229 Filed 5-3-19; 8:45 am]

BILLING CODE 6560-50-P